DEPARTMENT OF AGRICULTURE

Agricultural Marketing Service

7 CFR Part 205

[Doc. No. AMS-NOP-15-0012; NOP-15-06]

RIN 0581-AD44

National Organic Program (NOP); Organic Livestock and Poultry Practices

AGENCY: Agricultural Marketing Service, USDA.

ACTION: Final rule; delay of effective date.

SUMMARY: The United States Department of Agriculture's Agricultural Marketing Service (AMS) is delaying the effective date of the rule published on January 19, 2017, for an additional six months to November 14, 2017, to allow time for further consideration by USDA. The effective date for this rule was initially March 20, 2017, and was subsequently delayed to May 19, 2017, by a document published in the Federal Register on February 9, 2017. The final rule amends the organic livestock and poultry production requirements by adding new provisions for livestock handling and transport for slaughter and avian living conditions; and expands and clarifies existing requirements covering livestock care and production practices and mammalian living conditions.

DATES: The effective date of the final rule published on January 19, 2017 (82 FR 7042), delayed until May 19, 2017, on February 9, 2017 (82 FR 9967), is further delayed until November 14, 2017.

FOR FURTHER INFORMATION CONTACT: Paul Lewis, Ph.D., Director, Standards Division. Telephone: (202) 720-3252; Fax: (202) 260-9151.

SUPPLEMENTARY INFORMATION: Consistent with the memorandum of January 20, 2017, to the heads of executive departments and agencies from the Assistant to the President and Chief of Staff, entitled, “Regulatory Freeze Pending Review,” on February 9, 2017, AMS delayed the effective date of the final rule, Organic Livestock and Poultry Practices, that was published in the Federal Register on January 19, 2017 (82 FR 7042) to May 19, 2017.

Because there are significant policy and legal issues addressed within the final rule that warrant further review by USDA, AMS is further delaying the effective date of this rule by 180 days to November 14, 2017. In addition, AMS will publish a proposed rule that solicits public comments on the direction that USDA should take with respect to the rule. The public will have a 30-day comment period to specify whether USDA should: (1) Let the rule become effective, (2) suspend the rule indefinitely, (3) delay the effective date of the rule further, or (4) withdraw the rule.

The rule amends the organic livestock and poultry production requirements of the USDA organic regulations by adding new provisions for livestock handling and transport for slaughter and avian living conditions; and expands and clarifies existing requirements covering livestock care and production practices and mammalian living conditions. The rule finalizes a proposed rule that AMS published in the Federal Register on April 13, 2016, 81 FR 21955.

To the extent that 5 U.S.C. 553(b)(A) applies to this action, it is exempt from notice and comment for good cause and the reasons cited above. AMS finds that notice and solicitation of comment regarding the brief extension of the effective date for the final regulation are impracticable, unnecessary, or contrary to the public interest pursuant to 5 U.S.C. 553(b)(B). The delay of the effective date until November 14, 2017, should give AMS sufficient time to receive and consider public comments and take action on the disposition of the rule. AMS also believes that affected entities need to be informed as soon as possible of the extension and its length in order to plan and adjust their implementation process accordingly.

Dated: May 4, 2017.
Bruce Summers,
Acting Administrator, Agricultural Marketing Service.

[FR Doc. 2017-09409 Filed 5-9-17; 8:45 am]

BILLING CODE 3410-02-P